DEPARTMENT OF ENERGY

Federal Energy Regulatory Commission

[Docket No. RP03-499-000]

Enbridge Pipelines (Midla) L.L.C.; Notice of Compliance Filing

June 4, 2003.

Take notice that on May 30, 2003, Enbridge Pipelines (Midla) L.L.C. (Enbridge Midla) tendered for filing as part of its FERC Gas Tariff, Fifth Revised Volume No. 1, the tariff sheets listed in appendix A of the filing, to be effective July 1, 2003.

Enbridge Midla states that it is making this filing pursuant to the directives in Order No. 587-R, Final Rule, issued on March 12, 2003, in Docket No. RM96-1-024. The revised tariff sheets included in Enbridge Midla's filing reflect the Version 1.6 standards and the partial day recall standards promulgated by the Wholesale Gas Quadrant of the North American Energy Standards Board, as adopted by the Federal Energy Regulatory Commission (Commission) and incorporated by reference in the Commission's regulations.

Enbridge Midla states that copies of its filing have been mailed to all affected customers and interested state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 11, 2003.

Magalie R. Salas,
Secretary.

[FR Doc. 03-14616 Filed 6-10-03; 8:45 am]

BILLING CODE 6717-01-P